ENVIRONMENTAL PROTECTION AGENCY

[EPA-HQ-OPP-2010-0001; FRL-8847-2]

SFIREG Full Committee; Notice of Public Meeting

AGENCY: Environmental Protection Agency (EPA).

ACTION: Notice.

SUMMARY: The Association of American Pesticide Control Officials (AAPCO)/State FIFRA Issues Research and Evaluation Group (SFIREG), Environmental Quality Issues (EQI) Committee will hold a 2-day meeting, beginning on October 27, 2010, and ending October 28, 2010. This notice announces the location and times for the meeting and sets forth the tentative agenda topics.

DATES: The meeting will be held on Wednesday, October 27, 2010 from 8:30 a.m. to 5 p.m. and 8:30 a.m. to 12 noon on Thursday, October 28, 2010.

To request accommodation of a disability, please contact the person listed under FOR FURTHER INFORMATON CONTACT, preferably at least 10 days prior to the meeting, to give EPA as much time as possible to process your request.

ADDRESSES: The meeting will be held at EPA. One Potomac Yard (South Bldg.), 2777 Crystal Dr., Arlington VA., 4th Floor South Conference Room.

FOR FURTHER INFORMATION CONTACT: Ron Kendall, Field and External Affairs Division (7506P), Office of Pesticide Programs, Environmental Protection Agency, 1200 Pennsylvania Ave., NW., Washington, DC 20460-0001; telephone number: (703) 305-5561 fax number: (703) 308-1850; e-mail address: kendall.ron@epa.gov. or Grier Stayton, SFIREG Executive Secretary, P.O. Box 466, Milford DE 19963; telephone number (302) 422-8152; fax (302) 422-2435; e-mail address: Grier Stayton at aapco-sfireg@comcast.net.

SUPPLEMENTARY INFORMATION:

I. General Information

A. Does this action apply to me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA).

B. How can I get copies of this document and other related information?

1. Docket. EPA has established a docket for this action under docket ID number EPA-HQ-OPP-2010-0001. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. Background

1. SFIREG/EQI letter re: environmental and human health benchmarks.

2. EPA use of monitoring data vs. use of modeling outputs in registration review process.

3. Endangered Species—bulletins update, possible rulemaking procedure, new biological opinions.

4. Bed bugs: “One State's Experience”, EPA taskforce update, misuse of pesticide products, proposed next steps.

5. Water quality Pesticide Regulatory Education Program (PREP) update.

6. Water quality PREP—National Pollution Discharge Elimination System (NPDES) discussions.

7. NPDES permit update—rollout, feedback and comments, EPA responses, NPDES/FIFRA Workgroup meeting, next steps.

8. Pesticide Of Interest Tracking System (POINTS) database—reporting and use update.

9. OPP and OECA updates.

10. Office of Water updates—Drinking water strategy.

11. Status of deleted and under-review pesticides (endosulfan, atrazine), pyrethoids and pyrethrins reevaluation, chlorpyrifos lawsuit, and usefulness to the states of Study Profile Templates for pesticide registration applications?

12. Canary software—detect intentional or unintentional contamination in drinking water systems.

II. How can I request to participate in this meeting?

This meeting is open for the public to attend. You may attend the meeting without further notification. Non EPA attendees will need to be signed in at lobby security and escorted to the fourth floor meeting room.

List of Subjects

Environmental protection.

Dated: September 17, 2010.
Kevin Keaney,
Acting Director, Field and External Affairs Division, Office of Pesticide Programs.

[FR Doc. 2010-24435 Filed 9-28-10; 8:45 am]

BILLING CODE 6560-50-P